DEPARTMENT OF ENERGY

Federal Energy Regulatory Commission

[Project No. 2701-061]

Erie Boulevard Hydropower, L.P.; Notice of Application Tendered for Filing With the Commission and Establishing Procedural Schedule for Licensing and Deadline for Submission of Final Amendments

Take notice that the following hydroelectric application has been filed with the Commission and is available for public inspection.

a. Type of Application: New Major License

b. Project No.: 2701-061

c. Date Filed: February 26, 2021

d. Applicant: Erie Boulevard Hydropower, L.P. (Erie)

e. Name of Project: West Canada Creek Hydroelectric Project

f. Location: The existing project is located on West Canada Creek, a tributary of the Mohawk River, in the counties of Oneida and Herkimer, New York. The project does not occupy federal land.

g. Filed Pursuant to: Federal Power Act, 16 U.S.C. 791(a)-825(r)

h. Applicant Contact: Steven Murphy, Director, Licensing, Brookfield Renewable, 33 West 1st Street South, Fulton, NY 13069, (315) 598-6130, steven.murphy@brookfieldrenewable.com. i. FERC Contact: Emily Carter, (202) 502-6512 or Emily.Carter@ferc.gov.

j. This application is not ready for environmental analysis at this time.

k. Project Description:

The project consists of the following two developments:

The Prospect Development includes: (1) A 176-acre impoundment with a normal surface elevation of 1,161.5 feet; ¹ (2) a dam that consists of a 306-foot-long, 45-foot-high concrete overflow spillway with three 27-foot-wide Tainter gates; (3) a 400-foot-long, 47-foot-high north dike and a 475-foot-long, 47-foot-high south dike; (4) a 4,500-foot-long, 22-foot-high canal extending from the south dike to a concrete intake; (5) a 430-foot-long, 13.5-foot-diameter steel penstock leading from the intake to the 76-foot-long, 62-foot-wide reinforced concrete powerhouse containing a single turbine generator unit with a nameplate capacity of 17.3 megawatts (MW); (6) an approximate 1.2-mile-long bypassed reach between the Prospect dam and the powerhouse; (7) 6.9-kilovolt (kV) generator leads that run from the powerhouse to a substation with a 15-kV breaker, 6.6/46-kV transformer, and a 46-kV switch connecting to the National Grid interconnection point within the substation; and (8) appurtenant facilities.

¹ All elevations refer to USGS mean sea level datum (National Geodetic Vertical Datum or NGVD).

The Trenton Development includes: (1) A 288-foot-long and 60-foot-high concrete and masonry dam having an overflow section with a crest elevation of 1,017.9 feet USGS, approximately 100 feet long surmounted by 6-foot hinged flashboards and a 10-foot by 15-foot sluice gate; (2) a concrete spillway approximately 160 feet long with a crest elevation of 1,016.2 feet USGS surmounted by a pneumatic flashboard system with a crest elevation of 1,023.9 feet USGS when fully inflated, discharging into a spillway channel excavated into rock around the east abutment of the dam; (3) a reservoir having a surface area of 9 acres and a gross storage capacity of 264 acre-feet at a normal pool elevation of 1,023.9 feet USGS; (4) six 5-foot-diameter sluice pipes through the dam and two concrete-sealed 5-foot-diameter pipes; (5) a reinforced-concrete intake structure having a lift gate and trashracks along the west bank of the reservoir; (6) a 14-foot-diameter conduit comprising: (a) a 1,275-foot-long concrete-lined tunnel section; (b) a 40-foot-long steel-lined tunnel section; and (c) a 2,075-foot-long steel pipe section; (7) a bifurcation; (8) a steel penstock comprising: (a) a short 12-foot-diameter section connecting to a surge tank and leading to a 125-foot-long, 12-foot-diameter section connecting to a manifold; and (b) three 138-foot-long, 7-foot-diameter sections serving generating Units 5, 6, and 7; (9) a 263-foot-long, 7-foot-diameter steel penstock to Units 1 through 4; (10) Units 1 through 4 in Powerhouse No. 1 retired in-place and Powerhouse No. 2 containing generating Unit 5 (7,400 kW), Unit 6 (7,650 kW), and Unit 7 (7,400 kW) for a total nameplate rating of 22,450-kW operated at a 255-foot head and a maximum flow of 1,450 cfs; (11) the 13.2-kV generator leads, the 15-kV switchgear, the 13.2/46-kV transformers, the 46-kV switchgear connecting to the main 46-kV bus, and the associated station services transformer banks and low voltage switchgear; and (12) appurtenant facilities.

The West Canada Creek Project operates off of outflows from the New York Power Authority's Hinckley-Jarvis Hydroelectric Project's (FERC No. 3211) reservoir (Hinckley reservoir) that discharges into the upper end of the Prospect Development's reservoir.

l. In addition to publishing the full text of this document in the Federal Register, the Commission provides all interested individuals an opportunity to view and/or print the contents of this document and the full license application via the internet through the Commission's Home Page (www.ferc.gov) using the “eLibrary” link. At this time, the Commission has suspended access to the Commission's Public Access Room due to the proclamation declaring a National Emergency concerning the Novel Coronavirus Disease (COVID-19), issued by the President on March 13, 2020. For assistance, contact FERC at FERCOnlineSupport@ferc.gov or call toll-free, (886) 208-3676 or TTY, (202) 502-8659. The application can also be found on the applicant's website (https://westcanadacreek.brookfieldusprojects.com/).

m. You may also register online at http://www.ferc.gov/docs-filing/esubscription.asp to be notified via email of new filings and issuances related to this or other pending projects. For assistance, contact FERC Online Support.

n. Final amendments to the application must be filed with the Commission no later than 30 days from the issuance date of the notice of ready for environmental analysis.

Dated: March 12, 2021.
Kimberly D. Bose,
Secretary.

[FR Doc. 2021-05620 Filed 3-17-21; 8:45 am]

BILLING CODE 6717-01-P